DEPARTMENT OF ENERGY

10 CFR Part 733

RIN 1901-AA 89

Public Meetings To Obtain Input on DOE's Implementation of Federal Policy on Research Misconduct

AGENCY: U.S. Department of Energy (DOE).

ACTION: Notice of public meetings and request for comments.

SUMMARY: DOE is initiating the development of a rulemaking to implement the Federal policy on research misconduct that was issued by the White House Office of Science and Technology Policy. The responsibility involves developing a DOE-complex wide policy on research misconduct and the necessary rulemaking to implement the policy. The rulemaking will include a definition of research misconduct as well as procedures for handling allegations of research misconduct. To begin this process, the DOE is holding a series of public meetings to obtain input from persons and organizations with interests in this area.

DATES: Written comments can be submitted on or before June 20, 2001. If you anticipate that you will be submitting comments but find it difficult to do so within the period of time allowed by this notice, you should advise Anne Marie Zerega at the address below, as soon as possible. The meetings are being held on May 10, June 12, June 14, and June 20.

ADDRESSES: All comments or requests for information should be sent to Anne Marie Zerega, Senior Analyst, Office of Planning and Analysis, Office of Science, SC-5, U.S. Department of Energy, Washington, D.C. 20585 Tel: 202-586-4477 Fax: 202-586-7719 e-mail: Anne-Marie.Zerega@science.doe.gov.

Four meetings are scheduled:

May 10, 2001, 10:00 a.m. to 4:00 p.m., Berkner Auditorium, Building 488, 11 Brookhaven Avenue, Brookhaven National Laboratory, Upton, New York 11973-5000, Phone: 631-344-8000

June 12, 2001, 9:00 a.m. to 3:00 p.m., Stanford Linear Accelerator Center, Stanford University, 2575 Sand Hill Road, Menlo Park, CA 94025

June 14, 2001, 10:00 a.m. to 4:00 p.m., Location: Jefferson County School Board Room, 1829 Denver West Drive, Building 27, Golden, CO 80401. The board room is on the 5th floor.

June 20, 2001, 10:00 a.m. to 4:00 p.m., Auditorium, U.S. Department of Energy, 19901 Germantown Road, Germantown, MD 20874-1290, 301-903-3000

FOR FURTHER INFORMATION CONTACT: Anne Marie Zevega, (202) 586-4477.

SUPPLEMENTARY INFORMATION: Each meeting will have the same agenda:

10:00 a.m. to 11:30 a.m. (9:00 a.m. to 10:30 a.m. in California)

Presentations by DOE officials from General Counsel, the Office of Science, and the Office of Hearings and Appeals

11:30 a.m. to 4:00 p.m. (10:30 a.m. to 3:00 p.m. in California)

Question and Comments will be taken from the floor during this period. There will be a one-hour break for lunch.

4:00 p.m. (3:00 p.m. in California)

Adjourn

Advances in science, engineering, and all fields of research depend on the reliability of the research record, as do the benefits associated with them in areas such as health and national security. Sustained public trust in the research enterprise also requires confidence in the research record and in the processes involved in its ongoing development. For these reasons, and in the interest of achieving greater uniformity in Federal policies in this area, the National Science and Technology Council (NSTC) initiated the development of a Federal research misconduct policy in April 1996. The Office of Science and Technology Policy (OSTP) provided leadership and coordination, and all Federal agencies with a research mission participated. The final policy was printed in the Federal Register on December 6, 2000 (66 FR 76260).

This policy applies to federally-funded research and proposals submitted to Federal agencies for research funding. It thus applies to research conducted by the Federal agencies, conducted or managed for the Federal government by contractors, or supported by the Federal government and performed at research institutions, including universities and industry.

The NSTC policy establishes the scope of the Federal government's interest in the accuracy and reliability of the research record and the processes involved in its development. It consists of a definition of research misconduct and basic guidelines for the response of Federal agencies and research institutions to allegations of research misconduct.

The Federal agencies that conduct or support research are charged with implementing this policy within one year of the date of its issuance. An NSTC interagency research misconduct policy implementation group has been established to help achieve uniformity across the Federal agencies in implementation of the research misconduct policy. In some cases, this may require agencies to amend or replace extant regulations addressing research misconduct. In other cases, agencies may need to put new regulations in place or implement the policy through administrative mechanisms.

The policy addresses research misconduct. It does not supersede government or institutional policies or procedures for addressing other forms of misconduct, such as the unethical treatment of human research subjects or mistreatment of laboratory animals used in research, nor does it supersede criminal or other civil law. Agencies and institutions may address these other issues as authorized by law and as appropriate to their missions and objectives.

A copy of the OSTP policy published in the Federal Register may be viewed at: www.science.doe.gov/misconduct

Issued in Washington DC on April 4, 2001.
James Decker,
Director (Acting), Office of Science.

[FR Doc. 01-9464 Filed 4-17-01; 8:45 am]

BILLING CODE 6450-01-P